DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of a currently approved collection. The ICR describes the nature of the information collection and the expected burden. The Federal Register Notice with a 60-day comment period soliciting comments on the following collection of information was published on 12/28/2000, page 82454.

DATES: Comments must be submitted on or before May 4, 2001. A comment to OMB is most effective if OMB receives it within 30 days of publication.

FOR FURTHER INFORMATION CONTACT: Judy Street on (202) 267-9895.

SUPPLEMENTARY INFORMATION:

Federal Aviation Administration (FAA)

Title: Airport Security (14 CFR part 107).

Type of Request: Extension of a currently approved collection.

OMB Control Number: 2120-0075.

Forms: FAA Forms 1650-7 and 1650-8.

Affected Public: 465 Regulated Airport Operators.

Abstract: 14 CFR part 107, Airport Security, implements the provisions of the Public Law 103-272 and the Aviation Security Improvement Act that relate to security of persons and property at airports operating in commercial air transportation. Airport security programs, training records, screenings, bomb threats, and arrest reports are needed to ensure protection of persons and property in air transportation against acts of criminal violence to ensure passenger screening procedures are effective and that information is available to comply with Congressional reporting requirements.

Estimated Annual Burden Hours: 103,587 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC, on March 29, 2001.
Steve Hopkins,
Manager, Standards and Information Division, APF-100.

[FR Doc. 01-8271 Filed 4-3-01; 8:45 am]

BILLING CODE 4910-13-M